DEPARTMENT OF COMMERCE

International Trade Administration

[A-423-814, A-580-899, A-791-824]

Acetone From Belgium, the Republic of South Africa, and the Republic of Korea: Antidumping Duty Orders

AGENCY: Enforcement and Compliance, International Trade Administration, Department of Commerce.

SUMMARY: Based on affirmative final determinations by the Department of Commerce (Commerce) and the International Trade Commission (ITC), Commerce is issuing antidumping duty orders on acetone from Belgium, the Republic of South Africa (South Africa), and the Republic of Korea (Korea).

DATES: Applicable March 31, 2020.

FOR FURTHER INFORMATION CONTACT: Alex Cipolla at (202) 482-4956 (Belgium), Caitlin Monks (202) 482-2670 (South Africa), or Sean Carey at (202) 482-3964 (Korea), AD/CVD Operations, Office VII, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on February 13, 2020, Commerce published its affirmative final determinations in the less-than-fair-value (LTFV) investigations of acetone from Belgium, South Africa, and Korea.¹ On March 17, 2020, the ITC notified Commerce of its final affirmative determinations that an industry in the United States is materially injured within the meaning of section 735(b)(1)(A)(i) of the Act, by reason of the LTFV imports of acetone from Belgium, South Africa, and Korea.²

¹ See Acetone from Belgium: Final Determination of Sales at Less Than Fair Value, 85 FR 8249 (February 13, 2020); see also Acetone from the Republic of South Africa: Final Determination of Sales at Less Than Fair Value, 85 FR 8247 (February 13, 2020); and Acetone from the Republic of Korea: Final Determination of Sales at Less Than Fair Value, 85 FR 8252 (February 13, 2020) (collectively, Final Determinations).

² See ITC's Letter dated March 17, 2020 (ITC Notification Letter).

Scope of the Orders

The merchandise covered by these orders is acetone from Belgium, Korea, and South Africa. For a complete description of the scope of the orders, see the Appendix to this notice.

Antidumping Duty Orders

On March 17, 2020, in accordance with sections 735(b)(1)(A)(i) and 735(d) of the Act, the ITC notified Commerce of its final determinations that an industry in the United States is materially injured by reason of imports of acetone from Belgium, Korea, and South Africa.³ Therefore, in accordance with sections 735(c)(2) and 736 of the Act, Commerce is issuing these antidumping duty orders. Because the ITC determined that imports of acetone from Belgium, Korea, and South Africa are materially injuring a U.S. industry, unliquidated entries of such merchandise from Belgium, Korea, and South Africa, which are entered or withdrawn from warehouse for consumption, are subject to the assessment of antidumping duties.

³ See ITC Notification Letter.

As a result of the ITC's final affirmative determinations, in accordance with section 736(a)(1) of the Act, Commerce will direct U.S. Customs and Border Protection (CBP) to assess, upon further instruction by Commerce, antidumping duties equal to the amount by which the normal value of the merchandise exceeds the export price or constructed export price of the merchandise, for all relevant entries of acetone from Belgium, Korea, and South Africa. Antidumping duties will be assessed on unliquidated entries of acetone from Belgium, Korea, and South Africa entered, or withdrawn from warehouse, for consumption on or after September 24, 2019, the date of publication of the Preliminary Determinations,⁴ but will not include entries occurring after the expiration of the provisional measures period and before publication in the Federal Register of the ITC's injury determination, as further described below.

⁴ See Acetone from Belgium: Preliminary Affirmative Determination of Sales at Less Than Fair Value, Postponement of Final Determination, and Extension of Provisional Measures, 84 FR 49999 (September 24, 2019); see also Acetone from the Republic of Korea: Preliminary Affirmative Determination of Sales at Less Than Fair Value, Postponement of Final Determination, and Extension of Provisional Measures, 84 FR 50005 (September 24, 2019); and Acetone from the Republic of South Africa: Preliminary Affirmative Determination of Sales and Less Than Fair Value, Postponement of Final Determination, and Extension of Provisional Measures, 84 FR 49984 (September 24, 2019) (collectively, Preliminary Determinations).

Suspension of Liquidation

In accordance with section 736 of the Act, Commerce will instruct CBP to reinstitute the suspension of liquidation of subject merchandise (i.e., acetone from Belgium, Korea, and South Africa), effective on the date of publication of the ITC final determinations in the Federal Register, and to assess, upon further instruction by Commerce pursuant to section 736(a)(1) of the Act, antidumping duties for each entry of the subject merchandise equal to the amount by which the normal value of the merchandise exceeds the export price or constructed export price of the merchandise, adjusted by the amount of export subsidies, where appropriate. We intend to instruct CBP to require, at the same time as importers would normally deposit estimated import duties on this merchandise, cash deposits for each entry of subject merchandise equal to the estimated weighted-average dumping margins listed below. These instructions suspending liquidation will remain in effect until further notice. The all-others rates apply to all other producers or exporters not specifically listed.

Estimated Weighted-Average Dumping Margins

The estimated weighted-average dumping margins for each antidumping duty order are as follows:

Exporter/producer | Weighted- average dumping margin (percent)
Belgium
INEOS Europe AG/INEOS Phenol Belgium NV | 28.10
All Others | 28.10
Korea
Kumho P&B Chemicals, Inc | 47.86
LG Chem, Ltd | 25.05
All Others | 33.10
South Africa
Sasol South Africa Limited | 414.92
All Others | 314.51

Provisional Measures

Section 733(d) of the Act states that suspension of liquidation pursuant to an affirmative preliminary determination may not remain in effect for more than four months, except that Commerce may extend the four-month period to no more than six months at the request of exporters representing a significant proportion of exports of the subject merchandise. Commerce's Preliminary Determinations were published on September 24, 2019.⁵ In the Preliminary Determinations, Commerce postponed the Final Determinations, and extended the provisional measures period to six months. Commerce's Final Determinations were published on February 13, 2020.⁶ As such, the six-month period beginning on the date of publication of the Preliminary Determinations ends on March 22, 2020.

⁵ See Preliminary Determinations.

⁶ See Final Determinations.

Therefore, in accordance with section 733(d) of the Act, Commerce instructed CBP to terminate the suspension of liquidation, and to liquidate, without regard to antidumping duties, unliquidated entries of acetone from Belgium, Korea, and South Africa entered or withdrawn from warehouse for consumption after March 22, 2020, the date on which the provisional measures expired, through the day preceding the date of publication of the ITC's final affirmative injury determinations in the Federal Register. Suspension of liquidation will resume on the date of publication of the ITC's final affirmative injury determinations in the Federal Register.

Notification to Interested Parties

This notice constitutes the antidumping duty orders with respect to acetone from Belgium, Korea, and South Africa, pursuant to section 736(a) of the Act. Interested parties can find a list of antidumping duty orders currently in effect at http://enforcement.trade.gov/stats/iastats1.html.

These orders are published in accordance with section 736(a) of the Act and 19 CFR 351.211(b).

Dated: March 25, 2020.
Jeffrey I. Kessler,
Assistant Secretary for Enforcement and Compliance.

Appendix—Scope of the Orders

The merchandise covered by these orders is all grades of liquid or aqueous acetone. Acetone is also known under the International Union of Pure and Applied Chemistry (IUPAC) name propan-2-one. In addition to the IUPAC name, acetone is also referred to as β-ketopropane (or beta-ketopropane), ketone propane, methyl ketone, dimethyl ketone, DMK, dimethyl carbonyl, propanone, 2-propanone, dimethyl formaldehyde, pyroacetic acid, pyroacetic ether, and pyroacetic spirit. Acetone is an isomer of the chemical formula C3H6O, with a specific molecular formula of CH3COCH3 or (CH3)2CO.

The scope covers both pure acetone (with or without impurities) and acetone that is combined or mixed with other products, including, but not limited to, isopropyl alcohol, benzene, diethyl ether, methanol, chloroform, and ethanol. Acetone that has been combined with other products is included within the scope, regardless of whether the combining occurs in third countries.

The scope also includes acetone that is commingled with acetone from sources not subject to these orders.

For combined and commingled products, only the acetone component is covered by the scope of these orders. However, when acetone is combined with acetone components from sources not subject to this investigation, those third country acetone components may still be subject to other acetone orders.

Notwithstanding the foregoing language, an acetone combination or mixture that is transformed through a chemical reaction into another product, such that, for example, the acetone can no longer be separated from the other products through a distillation process (e.g., methyl methacrylate (MMA) or Bisphenol A (BPA)), is excluded from these orders.

A combination or mixture is excluded from these orders if the total acetone component (regardless of the source or sources) comprises less than 5 percent of the combination or mixture, on a dry weight basis.

The Chemical Abstracts Service (CAS) registry number for acetone is 67-64-1.

The merchandise covered by these orders is currently classifiable under Harmonized Tariff Schedule of the United States (HTSUS) subheadings 2914.11.1000 and 2914.11.5000. Combinations or mixtures of acetone may enter under subheadings in Chapter 38 of the HTSUS, including, but not limited to, those under heading 3814.00.1000, 3814.00.2000, 3814.00.5010, and 3814.00.5090. The list of items found under these HTSUS subheadings is non-exhaustive. Although these HTSUS subheadings and CAS registry number are provided for convenience and customs purposes, the written description of the scope of these orders is dispositive.

[FR Doc. 2020-06639 Filed 3-30-20; 8:45 am]

BILLING CODE 3510-DS-P